DEPARTMENT OF ENERGY

Federal Energy Regulatory Commission

[Docket Nos. PL04-15-000, RM02-12-000, RM02-1-001, RM02-1-005]

Interconnection for Wind Energy and Other Alternative Technologies; Standardization of Small Generator Interconnection Agreements and Procedures; Standardizing Generator Interconnection Agreements and Procedures; Supplemental Notice of Technical Conference

September 8, 2004.

In a Notice of Technical Conference issued August 27, 2004, the Federal Energy Regulatory Commission announced that it would host a technical conference on Friday, September 24, 2004 to discuss a petition for rulemaking submitted by the American Wind Energy Association (AWEA) related to the adoption of certain requirements for the interconnection of large wind generators. The AWEA petition is available at: http://www.ferc.gov/industries/electric/indus-act/gi/wind/AWEA.pdf.

The purpose of this Supplemental Notice of Technical Conference is to provide more detail to interested parties, and those who may wish to request to speak, regarding the issues that will be discussed at the Technical Conference.

Commission Staff is interested in speakers who can discuss wind and other technologies that may require special interconnections due to the method in which they add electricity to the grid. Staff has prepared a list of potential topics, questions and issues that may be addressed by speakers at the conference, to aid interested parties and speakers in determining whether they will attend and/or submit a request to speak. While additional items may still be addressed at the conference, the topics, questions and issues Staff has identified to date include:

I. Should There be Special Interconnection Requirements for Wind Generators, or Should These Interconnections be Governed by the Requirements of Order No. 2003 and Order No. 2003-A?

a. How are wind technologies different?

b. What is meant by low voltage ride-through capability? How does it work?

c. Is a low voltage ride-through standard necessary for the interconnection of wind generators? Why or why not?

d. Do intermittent generators need special interconnection requirements?

e. Are wind generators able to provide reactive power? Should they be required to provide reactive power?

f. Should wind generators be exempted from the power factor design criteria set forth in Order No. 2003-A. Yes or No, and discussion of why.

g. Are there other technologies that also need special interconnection requirements like wind? What technologies? Why?

h. Should wind technologies be exempted from having to file the full engineering and system design information at the time of the interconnection request?

i. What is the experience of transmission providers and State regulatory agencies with interconnecting wind and other such technologies?

II. How Should Any Special Interconnection Requirements be Related to the Size of the Wind Facility?

a. Should there be special requirements for large wind farms? For example, should large wind facilities be required to determine SCADA (system control and data acquisition) equipment prior to the interconnection studies?

b. What SCADA information is required?

c. How do these requirements vary with the size of the wind facility?

d. Are any special interconnection requirements also necessary for small (under 20 MW) wind facilities?

III. What, if Any, are the Reliability and Safety Implications of the AWEA Proposal?

IV. Are Special Standards Needed for Wind Interconnection Studies?

a. Are wind and other such technologies properly represented in the current engineering models used in interconnection system impact studies?

b. Is any special generating or system design information or models needed to conduct interconnection studies?

As noted in the earlier notice, the conference will be held at the Commission's Washington, DC headquarters, 888 First St., NE., 20426. The event is scheduled to begin at 10:30 a.m. and end at approximately 4:30 p.m. (Eastern Time) in the Commission Meeting Room, Room 2-C.

The conference is open for the public to attend, and registration is not required; however, in-person attendees are asked to register for the conference on-line by close of business on Wednesday, September 22, 2004 at http://www.ferc.gov/whats-new/registration/wind-0924-form.asp.

Parties interested in speaking at the conference should file their requests to speak no later than close of business on September 10, 2004. An on-line form requesting to speak is available at: http://www.ferc.gov/whats-new/registration/speaker-form.asp.

Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.gmu.edu and click on “FERC.”

For more information about the conference, please contact Bruce Poole at 202-502-8468 or at bruce.poole@ferc.gov.

Magalie R. Salas,
Secretary.

[FR Doc. E4-2190 Filed 9-14-04; 8:45 am]

BILLING CODE 6717-01-P